DEPARTMENT OF COMMERCE

International Trade Administration

The President's Export Council: Meeting of the President's Export Council

AGENCY: International Trade Administration, U.S. Department of Commerce.

ACTION: Notice of an open meeting via teleconference.

SUMMARY: The Manufacturing Council will hold a meeting via teleconference to deliberate a draft recommendation to the Secretary of Commerce regarding Alternative Energy.

Dates: May 4, 2007.

Time: 12 p.m. (EDST).

For the Conference Call-In Number and Further Information, Contact: The Manufacturing Council Executive Secretariat, Room 4043, Washington, DC, 20230 (Phone: 202-482-1124), or visit the Council's Web site at http://www.manufacturing.gov/council.

Dated: April 13, 2007.
Sam Giller,
Staff Director and Executive Secretary, The Manufacturing Council.

[FR Doc. 07-1929 Filed 4-13-07; 4:45 pm]

BILLING CODE 3510-DR-P